FEDERAL COMMUNICATIONS COMMISSION

Notice of Public Information Collection(s) Being Reviewed by the Federal Communications Commission

April 30, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 6, 2001. If you anticipate that you will be submitting comments, but find it difficult to do so within the period of time allowed by this notice, you should advise the contact listed below as soon as possible.

ADDRESSES: Direct all comments to Judy Boley, Federal Communications Commission, Room 1-C804, 445 12th Street, SW., DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0029.

Title: Application for TV Broadcast Station License.

Form No.: FCC Form 302-TV.

Type of Review: Revision of a currently approved collection.

Respondents: Business or other for-profit and not-for-profit institutions.

Number of Respondents: 83.

Estimated Time Per Response: 4-10 hours (1-2 hours for respondent; 2-6 hours for consulting engineer).

Frequency of Response: On occasion reporting requirement.

Total Annual Burden: 224 hours.

Total Annual Cost: $61,390.

Needs and Uses: FCC Form 302-TV is used by licensees and permittees of TV broadcast stations to obtain a new or modified station license, and/or to notify the Commission of certain changes in the licensed facilities. The data is used by FCC staff to confirm that the station has been built to terms specified in the outstanding construction permit and to ensure that any changes made to the station will not have an impact on other stations and the public. Data is extracted from FCC Form 302-TV for inclusion in the license to operate the station.

OMB Control No.: 3060-0978.

Title: Compatibility with E911 Emergency Calling Systems, Fourth Report and Order.

Form No.: N/A.

Type of Review: Extension of a currently approved collection.

Respondents: Business or other for-profit.

Number of Respondents: 4,000 respondents; 16,000 responses.

Estimated Time Per Response: 8 hours.

Frequency of Response: Quarterly reporting requirement.

Total Annual Burden: 32,000 hours.

Total Annual Cost: N/A.

Needs and Uses: The Fourth Report and Order mandates that digital wireless E911 service providers must be capable of transmitting 911 calls made using TTY devices by June 30, 2002. In order to ensure that carriers comply with this rule and to keep the Commission informed of technological advancements in this regard, the Fourth Report and Order requires that carriers file a quarterly TTY progress report, either individually or through an industry forum.

OMB Control No.: 3060-0970.

Title: Section 90.621(e)(2), Selection and Assignment of Frequencies.

Form No.: N/A.

Type of Review: Extension of a currently approved collection.

Respondents: Business or other for-profit and state, local or tribal government.

Number of Respondents: 1,000.

Estimated Time Per Response: .5 hours.

Frequency of Response: On occasion reporting requirement.

Total Annual Burden: 500 hours.

Total Annual Cost: N/A.

Needs and Uses: Section 90.621 requires applicants proposing to modify operations to use channels for commercial purposes in certain frequency bands in 800 MHz to provide written notice of the modification to all Public Safety licensees within 70 miles of the site of the channels for which the authorization for commercial use is sought that operate within 25 kHz of the center of those channels. This requirement seeks to avoid the potential of interference that could result from the modification of a Private Land Mobile radio facility to commercial use. If the information were not available there would be an increased risk of interference in this band.

Federal Communications Commission.
Magalie Roman Salas,
Secretary.

[FR Doc. 01-11328 Filed 5-4-01; 8:45 am]

BILLING CODE 6712-01-U